DEPARTMENT OF COMMERCE

National Oceanic and Atmospheric Administration

Review of Nomination for St. George Unangan Heritage National Marine Sanctuary

AGENCY: Office of National Marine Sanctuaries (ONMS), National Ocean Service (NOS), National Oceanic and Atmospheric Administration (NOAA), Department of Commerce (DOC).

ACTION: Notice; request for written comments.

SUMMARY: The Office of National Marine Sanctuaries (ONMS) of the National Oceanic and Atmospheric Administration (NOAA) is requesting written comments to facilitate ONMS' review of the nomination for St. George Unangan Heritage National Marine Sanctuary (NMS) at the five-year interval. In particular, NOAA is requesting relevant information as it pertains to its 11 evaluation criteria for inclusion in the inventory. In this five-year review, NOAA will pay particular attention to any new information about the significance of the area's natural or cultural resources, changes to any threats to these resources, and any updates to the management framework of the area. NOAA has provided the original nominating party, the City of St. George, an opportunity to share its views on these same questions. Following this information gathering and internal analysis, NOAA will make a final determination on whether or not the St. George Unangan Heritage NMS nomination will remain in the inventory for another five year period.

DATES: Written comments must be received by December 17, 2021.

ADDRESSES: Comments may be submitted by one of the following methods:

• Federal eRulemaking Portal: https://www.regulations.gov. Submit electronic comments via the Federal eRulemaking Portal and search for Docket Number NOAA-NOS-2021-0094.

• Mail: Paul E. Michel, Regional Policy Coordinator, NOAA Sanctuaries West Coast Region, 99 Pacific Street, Bldg. 100F, Monterey, CA 93940.

• Email: Paul.Michel@noaa.gov.

• Phone: 831-241-4217.

Instructions: All comments received are a part of the public record. All personal identifying information (for example, name and address) voluntarily submitted by the commenter may be publicly accessible. Do not submit confidential business information or otherwise sensitive or protected information. NOAA will accept anonymous comments (enter N/A in the required fields to remain anonymous).

FOR FURTHER INFORMATION CONTACT: Paul Michel, Regional Policy Coordinator, NOAA Sanctuaries West Coast Region, 99 Pacific Street, Bldg. 100F, Monterey, CA 93940, or at Paul.Michel@noaa.gov, or 831-241-4217.

SUPPLEMENTARY INFORMATION:

Background Information

In 2014, NOAA issued a final rule establishing the sanctuary nomination process (SNP), which details how communities may submit nominations to NOAA for consideration of national marine sanctuary designation (79 FR 33851). NOAA moves successful nominations to an inventory of areas that could be considered for national marine sanctuary designation. The final rule establishing the SNP included a five-year limit on any nomination added to the inventory that NOAA does not advance for designation.

In November 2019, NOAA issued a Federal Register notice (84 FR 61546) to clarify procedures for evaluating and updating a nomination as it approaches the five-year mark on the inventory of areas that could be considered for national marine sanctuary designation. This notice explained that if a nomination remains responsive to the evaluation criteria for inclusion on the inventory, it may be appropriate to allow the nomination to remain on the inventory for another five years. The notice also established a process for NOAA to consider the continuing viability of nominations nearing the five-year expiration mark.

The nomination for St. George Unangan Heritage NMS was accepted to the national inventory on January 27, 2017, and is therefore scheduled to expire on January 27, 2022. The full nomination can be found at https://nominate.noaa.gov/nominations/.

NOAA is not proposing to designate the St. George Unangan Heritage NMS with this action. Instead, NOAA is seeking public comment on ONMS' five-year review of the nomination for St. George Unangan Heritage NMS. Accordingly, written comments submitted as part of this request should not focus on whether NOAA should initiate the designation process for a St. George Unangan Heritage NMS. Rather, comments should address the relevance of the nomination towards NOAA's 11 evaluation criteria and any new information NOAA should consider about the nominated area (these criteria are detailed at https://nominate.noaa.gov/guide.html). Comments that do not pertain to the evaluation criteria, or present new information on the St. George Unangan Heritage NMS nomination, will not be considered in NOAA's decision on whether to retain this nomination in the inventory.

Whether removing or maintaining the nomination for St. George Unangan Heritage NMS, NOAA would follow the same procedure for notifying the public as was followed when the nomination was submitted, including a letter to the nominator, a notice in the Federal Register, and posting information on “nominate.noaa.gov”.

(Authority: 16 U.S.C. 1431 et seq.)

John Armor,
Director, Office of National Marine Sanctuaries, National Ocean Service, National Oceanic and Atmospheric Administration.

[FR Doc. 2021-24998 Filed 11-16-21; 8:45 am]

BILLING CODE 3510-NK-P